DEPARTMENT OF EDUCATION

Applications for New Awards; National Resource Centers Program for Foreign Language and Area Studies or Foreign Language and International Studies Program and Foreign Language and Area Studies Fellowships Program

AGENCY: Office of Postsecondary Education, Department of Education.

ACTION: Notice.

Overview Information

National Resource Centers (NRC) Program for Foreign Language and Area Studies or Foreign Language and International Studies Program and Foreign Language and Area Studies Fellowships (FLAS) Program.

Notice inviting applications for new awards for fiscal year (FY) 2014.

Catalog of Federal Domestic Assistance (CFDA) Numbers: 84.015A and 84.015B.

Note: This notice invites applications for two separate competitions. For funding and other key information for the two competitions, see the Award Information section of this notice.

Dates: Applications Available: May 30, 2014.

Deadline for Transmittal of Applications: June 30, 2014.

Deadline for Intergovernmental Review: August 28, 2014.

Full Text of Announcement

I. Funding Opportunity Description

Purpose of Programs: The NRC Program provides grants to institutions of higher education and consortia of such institutions to establish, strengthen, and operate comprehensive and undergraduate foreign language and area or international studies centers to serve as national resources for (a) teaching of any modern foreign language; (b) instruction in fields needed to provide full understanding of areas, regions, or countries in which the modern foreign language is commonly used; (c) research and training in international studies and international and foreign language aspects of professional and other fields of study; and (d) instruction and research on issues in world affairs that concern one or more countries.

The FLAS Program allocates academic year and summer fellowships to institutions of higher education and consortia of institutions of higher education to assist meritorious undergraduate and graduate students undergoing training in modern foreign languages and related area or international studies.

Priorities: This notice contains one absolute priority, two competitive preference priorities, and one invitational priority for NRC Program applicants. The NRC absolute priority is from 34 CFR 656.23(a)(4). The NRC Competitive Preference Priorities 1 and 2 are from the notice of final priorities for the NRC program published elsewhere in this issue of the Federal Register.

This notice also contains two competitive preference priorities and one invitational priority for FLAS Program applicants. The FLAS Competitive Preference Priority 1 is from the notice of final priorities for the FLAS Program published elsewhere in this issue of the Federal Register. The FLAS Competitive Preference Priority 2 is from 34 CFR 657.22(a)(2).

NRC Program Priorities:

Absolute Priority: For FY 2014, this priority is an absolute priority for the NRC Program. Under 34 CFR 75.105(c)(3), we consider only applications that meet this priority.

This priority is:

Applications that provide for teacher training activities on the language, languages, area studies, or thematic focus of the center.

Competitive Preference Priorities: For FY 2014, these priorities are competitive preference priorities. Under 34 CFR 75.105(c)(2)(i), we award up to an additional five points to an application, depending on how well the application meets NRC Competitive Preference Priority 1, and up to an additional five points to an application, depending on how well the application meets NRC Competitive Preference Priority 2. An applicant may receive a maximum of 10 points for its response to these competitive preference priorities.

These priorities are:

NRC Competitive Preference Priority 1 (0-5 points): Applications that propose significant and sustained collaborative activities with one or more Minority-Serving Institutions (MSIs) (as defined in this notice) or with one or more community colleges (as defined in this notice).

These activities must be designed to incorporate international, intercultural, or global dimensions into the curriculum at the MSI(s) or community college(s), and to improve foreign language, area, and international studies or international business instruction at the MSI(s) or community college(s). If an applicant institution is an MSI or a community college (as defined in this notice), that institution may propose intra-campus collaborative activities instead of, or in addition to, collaborative activities with other MSIs or community colleges.

For the purpose of this priority:

Community college means an institution that meets the definition in section 312(f) of the Higher Education Act of 1965, as amended (HEA) (20 U.S.C. 1058(f)); or an institution of higher education (as defined in section 101 of the HEA (20 U.S.C. 1001)) that awards degrees and certificates, more than 50 percent of which are not bachelor's degrees (or an equivalent) or master's, professional, or other advanced degrees.

Minority-Serving Institution means an institution that is eligible to receive assistance under sections 316 through 320 of part A of Title III, under part B of Title III, or under Title V of the HEA.

You may view lists of Title III and Title V eligible institutions at the following links:

http://www.ed.gov/about/offices/list/ope/idues/t3t5-eligibles-2014.pdf

http://www2.ed.gov/programs/iduesaitcc/tribal-newgrantees2013.pdf

http://www.ed.gov/programs/iduesaitcc/tribal-f-nccgrantees2013.pdf.

Note: The eligibility status is still current for institutions listed at the links above. You may also view the list of Historically Black Colleges and Universities at 34 CFR 608.2.

NRC Competitive Preference Priority 2 (0-5 points): Applications that propose collaborative activities with units such as schools or colleges of education, schools of liberal arts and sciences, post-baccalaureate teacher education programs, and teacher preparation programs on or off the national resource center campus.

These collaborative activities are designed to support the integration of an international, intercultural, or global dimension and world languages into teacher education and/or to promote the preparation and credentialing of more foreign language teachers in less commonly taught languages (LCTLs) for which there is a demand for additional teachers to meet existing and expected future kindergarten through grade 12 language program needs.

Invitational Priority: For FY 2014, this priority is an invitational priority for the NRC Program. Under 34 CFR 75.105(c)(1), we do not give an application that meets this invitational priority a competitive or absolute preference over other applications.

This priority is:

Programs or projects that develop, maintain, or enhance linkages with overseas institutions of higher education or other educational organizations, especially by centers that focus on sub-Saharan Africa, South Asia, and Southeast Asia, in order to improve understanding of these societies and provide for greater engagement with institutions in these areas.

FLAS Program Priorities:

Competitive Preference Priorities: For FY 2014, these priorities are competitive preference priorities. Under 34 CFR 75.105(c)(2)(i), we award an additional five points to an application that meets FLAS Competitive Preference Priority 1, and an additional five points to an application that meets FLAS Competitive Preference Priority 2. An applicant may receive a maximum of 10 points for its response to these competitive preference priorities.

These priorities are:

FLAS Competitive Preference Priority 1: Applications that propose to give preference when awarding fellowships to undergraduate students, graduate students, or both, to students who demonstrate financial need as indicated by the students' expected family contribution, as determined under part F of title IV of the HEA. This need determination will be based on the students' financial circumstances and not on other aid. The applicant must describe how it will ensure that all fellows who receive such preference show potential for high academic achievement based on such indices as grade point average, class ranking, or similar measures that the institution may determine. For grants awarded with fiscal year 2014 funds, the preference applies to fellowships awarded for study during academic years 2015-16, 2016-17, and 2017-18.

FLAS Competitive Preference Priority 2: Applications that propose to make 25 percent or more of academic year FLAS fellowships in any of the 78 priority languages selected from the U.S. Department of Education's list of less commonly taught languages (LCTLs).

The list includes the following: Akan (Twi-Fante), Albanian, Amharic, Arabic (all dialects), Armenian, Azeri (Azerbaijani), Balochi, Bamanakan (Bamana, Bambara, Mandikan, Mandigo, Maninka, Dyula), Belarusian, Bengali (Bangla), Berber (all languages), Bosnian, Bulgarian, Burmese, Cebuano (Visayan), Chechen, Chinese (Cantonese), Chinese (Gan), Chinese (Mandarin), Chinese (Min), Chinese (Wu), Croatian, Dari, Dinka, Georgian, Gujarati, Hausa, Hebrew (Modern), Hindi, Igbo, Indonesian, Japanese, Javanese, Kannada, Kashmiri, Kazakh, Khmer (Cambodian), Kirghiz, Korean, Kurdish (Kurmanji), Kurdish (Sorani), Lao, Malay (Bahasa Melayu or Malaysian), Malayalam, Marathi, Mongolian, Nepali, Oromo, Panjabi, Pashto, Persian (Farsi), Polish, Portuguese (all varieties), Quechua, Romanian, Russian, Serbian, Sinhala (Sinhalese), Somali, Swahili, Tagalog, Tajik, Tamil, Telugu, Thai, Tibetan, Tigrigna, Turkish, Turkmen, Ukranian, Urdu, Uyghur/Uigur, Uzbek, Vietnamese, Wolof, Xhosa, Yoruba, and Zulu.

Invitational Priority: For FY 2014, this priority is an invitational priority for the FLAS Program. Under 34 CFR 75.105(c)(1), we do not give an application that meets this invitational priority a competitive or absolute preference over other applications.

This priority is:

Applications that propose to award academic year fellowships in any of the priority languages used in sub-Saharan Africa, South Asia, and Southeast Asia.

Program Authority: 20 U.S.C. 1122.

Applicable Regulations: (a) The Education Department General Administrative Regulations (EDGAR) in 34 CFR parts 74, 75, 77, 79, 82, 84, 86, 97, 98, and 99. (b) The Education Department debarment and suspension regulations in 2 CFR part 3485. (c) The regulations in 34 CFR part 655. (d) The regulations for the NRC Program in 34 CFR part 656. (e) The regulations for the FLAS Program in 34 CFR part 657.

Note: The regulations in 34 CFR part 79 apply to all applicants except federally recognized Indian tribes.

Note: The regulations in 34 CFR part 86 apply to institutions of higher education (IHEs) only.

Area of National Need: In accordance with section 601(c) of the HEA (20 U.S.C. 1121(c)), the Secretary has consulted with and received recommendations regarding national need for expertise in foreign language and world regions from the head officials of a wide range of Federal agencies. The Secretary has taken these recommendations into account and a list of foreign languages and world regions identified by the Secretary as areas of national need may be found on the following Web site: http://www2.ed.gov/about/offices/list/ope/iegps/consultation-2014.pdf.

II. Award Information

Type of Award: Discretionary grants.

Estimated Available Funds:

NRC Program: $22,743,107.

FLAS Program: $30,398,500.

The estimated funds to be allocated to each world area are as follows:

NRC Program: Africa ($2,370,671); Canada ($385,178); East Asia ($3,574,282); International ($1,730,010); Latin America ($3,300,340); Middle East ($3,302,898); Russia/Eastern Europe/Eurasia ($2,612,477); South Asia ($2,130,312); Southeast Asia ($1,607,434); Western Europe ($1,729,505).

FLAS Program: Africa ($3,310,140); Canada ($272,190); East Asia ($4,693,950); International ($1,652,490); Latin America ($4,156,300); Middle East ($4,504,393); Russia/Eastern Europe/Eurasia ($4,712,370); South Asia ($2,978,075); Southeast Asia ($2,270,452); Western Europe ($1,848,140).

Estimated Range of Awards:

NRC Program: $115,000 to $285,000 per year.

FLAS Program: $150,000 to $350,000 per year.

Estimated Average Size of Awards:

NRC Program: $200,000 per year.

FLAS Program: $250,000 per year.

Estimated FLAS Program Subsistence Allowance: The academic year 2014-2015 subsistence allowance for a graduate student fellowship is $15,000; the academic year subsistence allowance for an undergraduate student fellowship is $5,000. The summer 2015 subsistence allowance is $2,500 for graduate and undergraduate student fellowships.

Estimated FLAS Program Institutional Payment: The academic year 2014-2015 institutional payment for a graduate student fellowship is $18,000; the academic year 2014-2015 institutional payment for an undergraduate student fellowship is $10,000. The summer 2015 institutional payment is $5,000 for graduate and undergraduate student fellowships.

Estimated Number of Awards:

NRC Program: 105.

FLAS Program: 108.

Note: The Department is not bound by any estimates in this notice.

Project Period: Up to 48 months.

III. Eligibility Information

1. Eligible Applicants: An institution of higher education or consortia of institutions of higher education.

2. Cost Sharing or Matching: These programs do not require cost sharing or matching.

IV. Application and Submission Information

1. Address To Request Application Package: Monet Peterson-Cox, U.S. Department of Education, 1990 K Street, NW., Room 6089, Washington, DC 20006. Telephone: (202) 502-7726 or by email: monet.peterson-cox@ed.gov.

If you use a telecommunications device for the deaf (TDD) or a text telephone (TTY), call the Federal Relay Service (FRS), toll free, at 1-800-877-8339.

Individuals with disabilities may obtain a copy of an application package in an accessible format (e.g., braille, large print, audiotape, or compact disc) by contacting the program contact person listed in this section.

2. Content and Form of Application Submission: Requirements concerning the content of an application, together with the forms you must submit, are in the application package for these programs. Page Limit: The application narrative is where you, the applicant, address the selection criteria that reviewers use to evaluate your application. You must limit the narrative to the equivalent of no more than 50 pages for a single institution application or the equivalent of no more than 60 pages for a consortium application, using the following standards:

• A “page” is 8.5″ × 11″, on one side only, with 1″ margins at the top, bottom, and both sides.

• Double space (no more than three lines per vertical inch) all text in the application narrative, except titles, headings, footnotes, quotations, references, captions, and all text in charts, tables, figures and graphs. These items may be single-spaced. Charts, tables, figures, and graphs in the application narrative count toward the page limit.

• Use a font that is either 12-point or larger, or no smaller than 10 pitch (characters per inch).

• Use one of the following fonts: Times New Roman, Courier, Courier New, or Arial. Applications submitted in any other font (including Times Roman or Arial Narrow) will not be accepted.

The page limit does not apply to the Application for Federal Assistance (SF 424); the Department of Education Supplemental Information form (SF 424); Budget Information—Non-Construction Programs (ED524); the assurances and certifications; the one-page project abstract; the acronym guide, project budget line item detail pages, or performance measure forms (PMFs); or the project personnel biographical profiles or course list.

We will reject your application if you exceed the page limit.

3. Submission Dates and Times:

Applications Available: May 30, 2014.

Deadline for Transmittal of Applications: June 30, 2014.

Applications for grants under these competitions must be submitted in paper format by mail or hand delivery. For information (including dates and times) about how to submit your application by mail or hand delivery, please refer to section IV. 7. Other Submission Requirements in this notice.

We do not consider an application that does not comply with the deadline requirements.

Individuals with disabilities who need an accommodation or auxiliary aid in connection with the application process should contact one of the persons listed under FOR FURTHER INFORMATION CONTACT in section VII of this notice. If the Department provides an accommodation or auxiliary aid to an individual with a disability in connection with the application process, the individual's application remains subject to all other requirements and limitations in this notice. Deadline for Intergovernmental Review: August 28, 2014.

4. Intergovernmental Review: These programs are subject to Executive Order 12372 and the regulations in 34 CFR part 79. Information about Intergovernmental Review of Federal Programs under Executive Order 12372 is in the application packages for these competitions.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also, note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

7. Other Submission Requirements: Applications for grants under these competitions must be submitted in paper format by mail or hand delivery.

a. Submission of Applications by Mail.

If you submit your application by mail (through the U.S. Postal Service or a commercial carrier), you must mail the original and two copies of your application, on or before the application deadline date, to the Department at the following address:

U.S. Department of Education,

Application Control Center,

Attention: (CFDA Numbers 84.015A and 84.015B)

LBJ Basement Level 1,

400 Maryland Avenue SW.,

Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

b. Submission of Applications by Hand Delivery.

If you submit your application by hand delivery, you (or a courier service) must deliver the original and two copies of your application by hand, on or before the application deadline date, to the Department at the following address:

U.S. Department of Education,

Application Control Center,

Attention: (CFDA Numbers 84.015A and 84.015B)

550 12th Street SW.,

Room 7039, Potomac Center Plaza,

Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. General: Applications are divided into categories based on their focus on a single country or on a world area, such as Africa, East Asia, or the Middle East, or on international studies. For FY 2014, all NRC and FLAS applications will be assigned to a geographic or international studies review panel, based on the designation that the applicant has specified on the form (page 25) in its application. The peer reviewers are selected on the basis of their area studies, international studies, and modern foreign language expertise. For the competitions, each distinct geographic or international studies reader panel will separately review, score, and rank its assigned NRC and FLAS grant applications. For the NRC Program and for the FLAS Program, the Department will select applications for funding consideration from each distinct reader panel based on their ranking from highest to lowest within that panel.

2. Selection Criteria: The selection criteria for the NRC Program are in 34 CFR 656.21 and 656.22 and are listed in the application package. The selection criteria for the FLAS Program are in 34 CFR 657.21 and are listed in the application package.

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under these competitions, you must ensure that you have in place the necessary processes and systems to comply with the reporting requirements in 2 CFR part 170.110(b).

(b) At the end of your project period, you must submit a final performance report, including financial information, as directed by the Secretary. If you receive a multi-year award, you must submit an annual performance report that provides the most current performance and financial expenditure information as specified by the Secretary in 34 CFR 75.118. The Secretary may also require more frequent performance reports under 34 CFR 75.720(c). For the NRC and FLAS Programs, final and annual reports must be submitted into the International Resource Information System (IRIS) online data and reporting system. You can view the performance report screens and instructions at:

http://iris.ed.gov/iris/pdfs/NRC.pdf

http://iris.ed.gov/iris/pdfs/FLAS_director.pdf

http://iris.ed.gov/iris/pdfs/FLAS_fellow.pdf.

4. Performance Measures: The Secretary has established the following key performance measures for assessing the effectiveness of the NRC Program and the FLAS Program:

NRC Program

a. Percentage of priority languages defined by the Secretary taught at NRCs.

b. Percentage of NRC grants teaching intermediate or advanced courses in priority languages as defined by the Secretary.

c. Percentage of NRCs that increased the number of intermediate or advanced level language courses in the priority and/or LCTLs during the course of the grant period (long-term measure).

d. Percentage of NRCs that increased the number of certificate, minor, or major degree programs in the priority and/or LCTLs, area studies, or international studies during the course of the four-year grant period.

e. Percentage of less and least commonly taught languages as defined by the Secretary taught at Title VI NRCs.

f. Cost per NRC that increased the number of intermediate or advanced level language courses in the priority and/or LCTLs during the course of the grant period.

FLAS Program

a. Percentage of FLAS-graduated fellows who secured employment that utilizes their foreign language and area studies skills within eight years after graduation based on a FLAS tracking survey.

b. Percentage of FLAS master's and doctoral graduates who studied priority languages as defined by the Secretary.

c. Percentage of FLAS fellows who increased their foreign language reading, writing, and/or listening/speaking scores by at least one proficiency level.

d. Cost per FLAS fellowship program fellow who increased his/her reading, writing, and/or listening/speaking language score by at least one proficiency level.

5. Continuation Awards: In making a continuation award, the Secretary may consider, under 34 CFR 75.253, the extent to which a grantee has made “substantial progress toward meeting the objectives in its approved application.” This consideration includes review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: The following persons on the NRC/FLAS team: Tim Duvall, Telephone: (202) 502-7622 or by email: tim.duvall@ed.gov; Cheryl E. Gibbs, Telephone: (202) 502-7634 or by email: cheryl.gibbs@ed.gov; Kate Maloney, Telephone: (202) 502-7521 or by email: kate.maloney@ed.gov; or Stephanie McKissic, Telephone: (202) 502-7589 or by email: stephanie.mckissic@ed.gov, U.S. Department of Education, 1990 K Street NW., Washington, DC 20006-8521.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search function at www.federalregister.gov. Specifically, through the advanced search feature at this site, you can limit your search to documents published by the Department.

Dated: May 27, 2014.
Lynn B. Mahaffie,
Senior Director, Policy Coordination, Development, and Accreditation Service, delegated the authority to perform the functions and duties of the Assistant Secretary for Postsecondary Education.

[FR Doc. 2014-12581 Filed 5-29-14; 8:45 am]

BILLING CODE 4000-01-P